DEPARTMENT OF ENERGY

Federal Energy Regulatory Commission

[Docket No. EL05-145-000]

Emergency Petition and Complaint of District of Columbia Public Service Commission; Notice of Filing of Emergency Petition and Complaint

August 25, 2005.

Take notice that on August 25, 2005, the District of Columbia Public Service Commission (DC Commission) filed an emergency petition and complaint. The DC Commission seeks action by the U.S. Department of Energy under section 202(c) of the Federal Power Act (FPA) and by this Commission under FPA sections 207 and 309 requiring the operation of the Potomac River Generating Station power plant owned and operated by Mirant Corporation and its public utility subsidiaries.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant. On or before the comment date, it is not necessary to serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: No later than 5 p.m. Eastern Time on August 29, 2005.

Magalie R. Salas,
Secretary.

[FR Doc. 05-17267 Filed 8-30-05; 8:45 am]

BILLING CODE 6717-01-P